DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on a proposed new collection of information (1024-xxxx).

DATES: Public comments will be accepted on the proposed Information Collection Request (ICR) on or before October 21, 2008.

ADDRESSES: Send comments to: Margaret Littlejohn; Park Studies Unit, College of Natural Resources, University of Idaho; P.O. Box 441139, Moscow, Idaho 83844-1139; or via phone at 208/885-7863; or via fax at 208/885-4261; or via e-mail at littlej@uidaho.edu. Also, you may send comments to Leonard E. Stowe, NPS Information Collection Clearance Officer, 1849 C St., NW., (2605), Washington, DC 20240; or via e-mail at leonard stowe@nps.gov. All responses to this notice will be summarized and included in the request for the Office of Management and Budget (OMB) approval. All comments will become a matter of public record.

FOR FURTHER INFORMATION CONTACT: Dr. James Gramann, NPS Social Science Program, 1201 “Eye” St., Washington, DC 20005; or via phone at 202/513-7189; or via e-mail at James_Gramann@partner.nps.gov . You are entitled to a copy of the entire ICR package free of charge.

SUPPLEMENTARY INFORMATION: Title: Programmatic Approval for the National Park Service Visitor Services Project

Bureau Form Number: None

OMB Number: To be requested.

Expiration Date: To be requested.

Type of Request: New collection.

Description of Need: The National Park Service (NPS) relies on accurate information concerning park visitors to inform planning and management aimed at better serving the visiting public. The NPS collects information on visitors' characteristics, opinions, preferences, and trip expenditures by means of visitor surveys, including those conducted by the NPS Visitor Services Project (VSP). Each year, the VSP completes up to 18 visitor surveys and focus groups in individual units of the National Park System. The NPS currently has a programmatic approval for NPS-sponsored public surveys (1024-0224). This programmatic approval has resulted in dramatic improvements in the agency's ability to conduct social science research in and around NPS units. The proposed VSP Programmatic Approval would extend these benefits by allowing this relatively homogeneous subset of information collections to go through its own review process. This will reduce the time that it takes for VSP information collections to be reviewed and fielded, benefiting parks that depend on VSPs to collect timely and accurate data from visitors for planning and management purposes.

The VSP conducts site-specific information collections, including in-depth visitor surveys and focus groups, at up to 18 parks per year. These studies are similar in terms of the populations contacted, the types of questions asked, and the research methods employed. Due to these similarities, the NPS is proposing to the OMB an alternative approach to complying with the Paperwork Reduction Act by allowing individual VSP information collection requests to be submitted to OMB under the proposed Programmatic Approval. Implementation of this proposal will lead to less time involved in creating submissions for individual VSP collections and decreased review times for studies submitted under the Programmatic Approval. The obligation to respond is voluntary.

Automated data collection: This information will be collected via mail-back surveys or standard focus group protocols. No automated data collection will take place.

Description of respondents: A sample of visitors to parks and/or residents of communities near parks.

Estimated average number of respondents: The program does not identify the number of respondents because that number will differ in each information collection, depending on the purpose and design of the project.

Estimated average number of responses: The program does not identify the number of responses because that number will differ in each information collection. For most projects, respondents will be asked to respond only one time. In those cases, the number of responses will be the same as the number of respondents.

Estimated average burden hours per response: Completion times for individual visitor surveys conducted by the VSP average around 20 minutes per respondent. Average contact times are one minute per contact. Focus groups average two hours in length.

Frequency of Response: 1 time per respondent.

Estimated total annual reporting burden: The program identifies the requested total number of burden hours annually for all information collections to be 10,000 burden hours per year. The total annual burden per project for most studies conducted under the auspices of this program will be within the range of 100 to 900 burden hours.

Comments are invited on: (1) the practical utility of the information being gathered; (2) the accuracy of the burden hour estimate; (3) ways to enhance the quality, utility, and clarity of the information to be collected; and (4) ways to minimize the burden hour to respondents, including use of automated information techniques or other forms of information technology. Before including your address, phone number, e-mail address, or other personal identifying information in your comment—may be made publicly available at any time. While you can ask us in your comment to withhold your personal identifying information from public review, we cannot guarantee that we will be able to do so.

Dated: August 7, 2008.
Leonard E. Stowe,
NPS, Information Collection Clearance Officer.

[FR Doc. E8-19427 Filed 8-21-08; 8:45 am]

BILLING CODE 4312-52-M